NATIONAL AERONAUTICS AND SPACE ADMINISTRATION

[Notice (14-120)]

Performance Review Board, Senior Executive Service (SES)

AGENCY: National Aeronautics and Space Administration (NASA).

ACTION: Notice of Membership of SES Performance Review Board.

SUMMARY: The Civil Service Reform Act of 1978, Public Law 95-454 (Section 405) requires that appointments of individual members to the Performance Review Board (PRB) be published in the Federal Register.

The performance review function for the SES in NASA is being performed by the NASA PRB. The following individuals are serving on the Board:

Performance Review Board

Chairperson, Associate Administrator, NASA Headquarters

Chair, Executive Resources Board, NASA Headquarters

Deputy Associate Administrator, NASA Headquarters

Associate Administrator for Mission Support Directorate, NASA Headquarters

Associate Administrator for Diversity and Equal Opportunity, NASA Headquarters

Cheryl E. Parker,
Federal Register Liaison Officer.

[FR Doc. 2014-27469 Filed 11-19-14; 8:45 am]

BILLING CODE 7510-13-P